COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List services to be furnished by nonprofit agencies employing persons who are blind or have other severe disabilities.

EFFECTIVE DATE: April 24, 2000.

ADDRESSES: Committee for Purchase From People Who Are Blind or Severely Disabled, Crystal Gateway 3, Suite 310, 1215 Jefferson Davis Highway, Arlington, Virginia 22202-4302.

FOR FURTHER INFORMATION CONTACT: Louis R. Bartalot (703) 603-7740.

SUPPLEMENTARY INFORMATION: On August 21, and December 18, 1998, October 29, 1999, January 14 and 21, and February 11, 2000, the Committee for Purchase From People Who Are Blind or Severely Disabled published notices (63 FR 44833 and 70099, 64 FR 58378, 65 FR 2373, 3416 and 6981) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the services to the Government.

2. The action will not have a severe economic impact on current contractors for the services.

3. The action will result in authorizing small entities to furnish the services to the Government.

4. There are no known regulatory alternatives which would accomplish the objectives of the Javits-Wagner-O'Day Act (41 U.S.C. 46-48c) in connection with the services proposed for addition to the Procurement List.

Accordingly, the following services are hereby added to the Procurement List:

Base Supply Center, 934th Airlift Wing ARS, Minneapolis, Minnesota.

Base Supply Center, Offutt Air Force Base, Nebraska.

Janitorial/Custodial

U.S. Customs Service, Office of Investigation, East and West Wings, Building 50, JFK Airport, Jamaica, New York.

Library Services, Building 405, Shaw Air Force Base, South Carolina.

Mailroom Operation, U.S. Department of State, Office of Foreign Buildings Operations, 1701 North Fort Myer Drive, Arlington, Virginia.

Operation of Individual Equipment Element Store and HAZMART, McGuire Air Force Base, New Jersey.

Reprographics, (GPO Program #464-S), Department of Energy, Washington, DC.

This action does not affect current contracts awarded prior to the effective date of this addition or options that may be exercised under those contracts.

Leon A. Wilson, Jr.,
Executive Director.

[FR Doc. 00-7325 Filed 3-23-00; 8:45 am]

BILLING CODE 6353-01-P